POSTAL SERVICE

Privacy Act of 1974; System of Records

AGENCY: Postal Service™.

ACTION: Notice of a modified system of records.

SUMMARY: The United States Postal Service® (Postal Service) is proposing to modify a General Privacy Act System of Records (SOR) to support an initiative that promotes innovation by issuing challenges and soliciting responses from participants through a crowd sourced solution.

DATES: These revisions will become effective without further notice on September 16, 2021, unless, in response to comments received on or before that date result in a contrary determination.

ADDRESSES: Comments may be submitted via email to the Privacy and Records Management Office, United States Postal Service Headquarters (privacy@usps.gov). To facilitate public inspection, arrangements to view copies of any written comments received will be made upon request.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records. The Postal Service is proposing revisions to an existing system of records (SOR) to support innovation in its operations by way of crowd sourced solutions.

I. Background

The Postal Service is seeking to reduce the cost and enhance the value of proposed solutions to problems faced by the organization that promote efficient and effective operation. As part of this initiative, USPS is soliciting collaborative methods to develop models, infrastructure, and innovation platforms to enhance USPS's capabilities. The objectives of this initiative will advance the mission of USPS by:

• Supporting USPS Technology Development and Applications

• Providing the ability to award prizes competitively to stimulate innovation

II. Rationale for Changes to USPS Privacy Act Systems of Records

The Postal Service is proposing to modify USPS SOR 400.000, Supplier and Tenant Records in support of an innovative approach for gathering feedback and ideas regarding challenges faced and topics of interest. USPS routinely encounters challenging science, technology, and engineering problems in the ordinary course of providing postal services. USPS is working with another federal agency with expertise in solving problems by way of crowd sourced solutions.

USPS seeks to utilize that expertise to aid it in formulating and conducting challenges for crowd sourced solutions with the purpose of identifying problem sets that have objectives suitable for generating innovative solutions using a distributed innovation model. USPS will further this objective by sponsoring competitions and challenges to generate innovative solutions.

Two new purposes have been added to USPS SOR 400.000, Supplier and Tenant Records, along with a new Category of Records and a record retention and disposal policy that pertain to records maintained by the crowd sourced initiative. The Postal Service will also change the name of the SOR from “USPS SOR 400.000, Supplier and Tenant Records” to “USPS SOR 400.000, Supplier Records, Tenant Records, and Records related to other Agreements” to reflect the scope of information that will be maintained by this system of records.

III. Description of the Modified System of Records

Pursuant to 5 U.S.C. 552a(e)(11), interested persons are invited to submit written data, views, or arguments on this proposal. A report of the proposed revisions to this SOR has been sent to Congress and to the Office of Management and Budget for their evaluations. The Postal Service does not expect this modified system of records to have any adverse effect on individual privacy rights. Accordingly, for the reasons stated above, the Postal Service proposes revisions to this system of records as follows:

SYSTEM NAME AND NUMBER:

USPS 400.000 Supplier Records, Tenant Records, and Records related to other Agreements.

SECURITY CLASSIFICATION:

None.

SYSTEM LOCATION:

USPS Headquarters; supply management offices; facilities service offices; area and district facilities, and contractor sites.

SYSTEM MANAGER(S) AND ADDRESS:

For contracting records: Vice President, Supply Management, United States Postal Service, 475 L'Enfant Plaza SW, Washington, DC 20260.

For contractor fingerprint screening records: Chief Postal Inspector, Inspection Service, United States Postal Service, 475 L'Enfant Plaza SW, Washington, DC 20260.

For real property owner and tenant records: Vice President, Facilities, United States Postal Service, 475 L'Enfant Plaza SW, Washington, DC 20260.

AUTHORITY FOR MAINTENANCE OF THE SYSTEM:

39 U.S.C. 401 and 411.

PURPOSE(S):

1. To administer contracts.

2. To determine supplier suitability for assignments requiring access to mail.

3. To adjudicate claims by owners and tenants of real property acquired by USPS.

4. To facilitate registration for participation in innovative challenges sponsored by USPS.

5. To provide an interactive forum that promotes innovation by challenging participants to gather ideas and relevant feedback about selected problems and topics using crowd sourced solutions.

CATEGORIES OF INDIVIDUALS COVERED BY THE SYSTEM:

Suppliers; prospective suppliers; owners and tenants of real property purchased or leased by USPS; participants in challenges sponsored by USPS.

CATEGORIES OF RECORDS IN THE SYSTEM:

1. Supplier information: Records related to suppliers, such as supplier name; Social Security Number or tax identification number; business contact information; contract number; and other contract information; fingerprint cards and experience and qualifications to provide services including principals' names and company descriptions.

2. Real property owner and tenant information: Records related to compensation claims by occupants of property acquired by USPS, including name and address of claimant, address of vacated dwelling, and itemized expenses.

3. Crowdsourcing Agreement Participant Records: First name, last name, email address, team name, organization name, team official representative or point of contact designation status, and password established during the registration process, idea text and relevant feedback responses to challenges regarding selected problems and topics, drawings, attachments, or documents associated with submissions.

RECORD SOURCE CATEGORIES:

Contract employees or businesses; previous dwelling owner or tenant claimant; and USPS claims reviewers and adjudicators; feedback and ideas provided by participating teams or individuals in USPS sponsored challenges.

ROUTINE USES OF RECORDS MAINTAINED IN THE SYSTEM, INCLUDING CATEGORIES OF USERS AND THE PURPOSES OF SUCH USES:

Standard routine uses 1. through 9. apply.

STORING, RETRIEVING, ACCESSING, RETAINING, AND DISPOSING OF RECORDS IN THE SYSTEM:

POLICIES AND PRACTICES FOR STORAGE OF RECORDS:

Automated database, computer storage media, and paper.

POLICIES AND PRACTICES FOR RETRIEVAL OF RECORDS:

Individual, business, lessor, or claimant name; contract name or number, Social Security Number, tax identification number, business contact information, or address of leased facility; individuals participating in challenges and teams or organizations participating in challenges.

POLICIES AND PRACTICES FOR RETENTION AND DISPOSAL OF RECORDS:

1. Unsuccessful proposals and architect/engineering questionnaires are retained 1 year beyond contract award. Contract records are closed at the end of the fiscal year in which they become inactive and are retained 6 years thereafter.

2. Contractor fingerprint records are retained 2 years beyond contractor termination date.

3. Leased property records are closed at the end of the calendar year in which the lease or rental agreement expires or terminates and are retained 6 years and 3 months from that date.

4. Real property owner and tenant records are retained 6 years unless required longer for litigation purposes.

5. Participant registration information for challenges and participant responses to challenges are retained for 1 year after conclusion of challenge.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.5.

CONTESTING RECORD PROCEDURES:

See Notification Procedures and Record Access Procedures above.

NOTIFICATION PROCEDURES:

Individuals wanting to know if information about them is maintained in this system of records must address inquiries to the appropriate system manager. Inquiries about highway vehicle contracts must be made to the applicable USPS area office. Real property owner and tenant claimants must address inquiries to the same facility to which they submitted the claim. Inquiries must contain full individual or business name, Social Security Number, tax identification number, contract number, date of contract, or other pertinent identifying information.

EXEMPTIONS PROMULGATED FOR THE SYSTEM:

None.

HISTORY:

June 27, 2012, 77 FR 38342; April 29, 2005, 70 FR 22516.

* * * * *

Ruth B. Stevenson,
Chief Counsel, Ethics and Legal Compliance.

[FR Doc. 2021-17648 Filed 8-16-21; 8:45 am]

BILLING CODE 7710-12-P